DEPARTMENT OF EDUCATION

[Docket No.: ED-2013-ICCD-0079]

Agency Information Collection Activities; Comment Request; Mandatory Civil Rights Data Collection

AGENCY: Department of Education (ED), OCR.

ACTION: Notice.

SUMMARY: In accordance with the Paperwork Reduction Act of 1995 (44 U.S.C. chapter 3501 et seq.), ED is proposing a new information collection.

DATES: Interested persons are invited to submit comments on or before August 20, 2013.

ADDRESSES: Comments submitted in response to this notice should be submitted electronically through the Federal eRulemaking Portal at http://www.regulations.gov by selecting Docket ID number ED-2013-ICCD-0079 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Mandatory Civil Rights Data Collection.

OMB Control Number: 1870—NEW.

Type of Review: A new information collection.

Respondents/Affected Public: State, Local, or Tribal Governments.

Total Estimated Number of Annual Responses: 17,620.

Total Estimated Number of Annual Burden Hours: 1,499,890.

Abstract: The collection, use and reporting of education data is an integral component of the mission of the U.S. Department of Education (ED). EDFacts, an ED initiative to put performance data at the center of ED's policy, management, and budget decision-making processes for all K-12 education programs, has transformed the way in which ED collects and uses data. For school years 2009-10 and 2011-12, the Civil Rights Data Collection (CRDC) was approved by OMB as part of the EDFacts information collection (1875-0240). For school years 2013-14 and 2015-16, the Office for Civil Rights (OCR) is clearing the CRDC as a separate collection from EDFacts. ED's CRDC information collection is modeled after the most current EDFacts information collection approved by OMB (1875-0240). As with previous CRDC collections, the purpose of the 2013-14 and 2015-16 CRDC is to obtain vital data related to the civil rights laws requirement that public local educational agencies (LEAs) and elementary and secondary schools provide equal educational opportunity. ED has extensively analyzed the uses of every data element collected in the 2011-12 CRDC and sought advice from experts across ED to refine, improve, and where appropriate, add or remove data elements from the collection. The 2013-14 and 2015-16 CRDC redesign effort ensured that, while several new indicators were added to the collection, data elements also were removed where appropriate. ED also made the CRDC data definitions and metrics consistent with other mandatory collections across ED wherever possible. The proposed additions and changes to the 2013-14 and 2015-16 CRDC reflect the need for a deeper understanding of and accurate data about the educational opportunities and school context for our nation's students. ED seeks OMB approval under the Paperwork Reduction Act to collect from LEAs, the elementary and secondary education data described in the sections of Attachment A. In addition, ED requests that LEAs and other stakeholders respond to the directed questions found in Attachment A-5.

Dated: June 17, 2013.
Stephanie Valentine,
Acting Director, Information Collection Clearance Division, Privacy, Information and Records Management Services, Office of Management.

[FR Doc. 2013-14783 Filed 6-20-13; 8:45 am]

BILLING CODE 4000-01-P